DEPARTMENT OF THE TREASURY

Submission for OMB Review; Comment Request

September 22, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 28, 2005 to be assured of consideration.

Internal Revenue Service (IRS)

OMB Number: 1545-0066.

Type of Review: Extension.

Title: Application for Additional Extension of Time to File U.S. Individual Income Tax Return.

Form: IRS form 2688.

Description: IRC section 6081 permits the Secretary to grant a reasonable extension of time for filing any return, declaration, statement, or other document. This form is used by individuals to ask for an additional extension of time to file U.S. Income tax returns after filing for the automatic extension, but still needing more time.

Respondents: Individuals or households.

Estimated Total Burden Hours: 2,240,312 hours.

OMB Number: 1545-1091.

Type of Review: Extension.

Title: Corporate Passive Activity Loss and Credit Limitations.

Form: IRS form 8810.

Description: Under Section 469, losses and credits from passive activities, to the extent they exceed passive income (or, in the case of credits, the tax attributable to net passive income), are not allowed. Form 8810 is used by personal service corporations and closely held corporations to figure the passive activity loss and credits allowed and the amount of loss and credit to be reported on their tax return.

Respondents: Business or other for profit.

Estimated Total Burden Hours: 3,749,000 hours.

OMB Number: 1545-1517.

Type of Review: Extension.

Title: Distributions from an Archer MSA or Medicare+Choice MSA.

Form: IRS form 1099-SA.

Description: This form is used to report distributions from a medical savings account as set forth in section 220(h).

Respondents: Business or other for-profit.

Estimated Total Burden Hours: 3,618 hours.

OMB Number: 1545-1218.

Type of Review: Extension.

Title: CO-25-96 (final) Regulations under Section 1502 of the Internal Revenue Code of 1986; Limitations on Net Operating Loss Carry forwards and Certain Built-in Losses and Credits Following an Ownership Change of Consolidated Group.

Description: Section 1502 provides for the promulgation of regulations with respect to corporations that file consolidated income tax returns. Section 382 limits the amount of income that can be offset by loss carryovers and credits after an ownership change. These final regulations provide rules for applying section 382 to groups of corporations that file a consolidated return.

Respondents: Business or other for-profit.

Estimated Total Burden Hours: 662 hours.

OMB Number: 1545-1811.

Type of Review: Extension.

Title: REG-150313-01 (NPRM) Redemptions Taxable as Dividends.

Description: This information is necessary to ensure that the redeemed shareholder's suspended basis account is properly taken into account as a loss under the Code or regulations to the extent of the lesser of the amount of the suspended basis account or the gain recognized upon a disposition of other stock in the redeeming corporation.

Respondents: Individuals or households and Business or other for-profit.

Estimated Total Burden Hours: 1,500 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Michael A. Robinson,
Treasury PRA Clearance Officer.

[FR Doc. 05-19337 Filed 9-27-05; 8:45 am]

BILLING CODE 4830-01-P